DEPARTMENT OF HEALTH AND HUMAN SERVICES

Centers for Medicare & Medicaid Services

[CMS-1249-CN2]

RIN 0938-AM46

Medicare Program; Prospective Payment System and Consolidated Billing for Skilled Nursing Facilities; Corrections

AGENCY: Centers for Medicare & Medicaid Services (CMS), HHS.

ACTION: Correction notice.

SUMMARY: This document corrects technical errors that appeared in the July 30, 2004 Federal Register, entitled “Medicare Program; Prospective Payment System and Consolidated Billing for Skilled Nursing Facilities—Update—Notice.”

EFFECTIVE DATE: This correction is effective October 1, 2004, except for certain wage index corrections that are effective January 1, 2005.

FOR FURTHER INFORMATION CONTACT: Jeanette Kranacs, (410) 786-9385, Bill Ullman, (410) 786-5667, or Sheila Lambowitz, (410) 786-7605.

SUPPLEMENTARY INFORMATION:

I. Background

On October 7, 2004, we published a correction notice (FR Doc. 04-22399, 69 FR 60158) to correct a number of technical errors that had appeared in the FY 2005 SNF PPS update notice published on July 30, 2004 (FR Doc. 04-17443, 69 FR 45775). In that notice we indicated that the corrected wage tables and other tables were being posted on the CMS Web site at http://www.cms.hhs.gov/providers/snfpps, and we also expressed our intent to publish them in a forthcoming Federal Register notice. In this notice we are fulfilling that intent, as well as correcting certain additional technical errors in wage index values that have been recently identified. The corrections appear in this document under the heading “Correction of Errors.” The provisions in this correction notice are effective as if they had been included in the document published in the Federal Register on July 30, 2004, that is, as of October 1, 2004, except for those wage index value corrections that we specifically note to be effective as of January 1, 2005.

In this notice, we hereby set forth the corrected versions of Tables 8, 9, 10, and 12 that were referenced in FR Doc. 04-22399 (69 FR 60158).

In addition, Table 8 is further revised to reflect the following additional corrections, which become effective as of January 1, 2005:

1. The entry of “0.7959” for Metropolitan Statistical Area (MSA) 3960 (Lake Charles, LA) is revised by adding “(0.7972, effective January 1, 2005)”.

2. The entry of “0.8053” for MSA 4280 (Lexington, KY) is revised by adding “(0.9219, effective January 1, 2005)”.

3. The entry of “1.0025” for MSA 5000 (Miami, FL) is revised by adding “(0.9870, effective January 1, 2005)”.

4. The entry of “1.2921” for MSA 5380 (Nassau-Suffolk, NY) is revised by adding “(1.2907, effective January 1, 2005)”.

5. The entry of “1.3587” for MSA 5600 (New York, NY) is revised by adding “(1.3586, effective January 1, 2005)”.

6. The entry of “1.0975” for MSA 6780 (Riverside-San Bernardino, CA) is revised by adding “(1.0970, effective January 1, 2005)”.

7. The entry of “0.9964” for MSA 8780 (Visalia-Tulare-Porterville, CA) is revised by adding “(0.9975, effective January 1, 2005)”.

8. The entry of “1.0059” for MSA 8960 (West Palm Beach-Boca Raton, FL) is revised by adding “(1.0362, effective January 1, 2005)”.

9. The entry of “0.9472” for MSA 9040 (Wichita, KS) is revised by adding “(0.9468, effective January 1, 2005)”.

II. Correction of Errors

In FR Doc. 04-17443 (69 FR 45775), make the following corrections:

1. On pages 45787 through 45814, in Table 8—Wage Index for Rural Areas the table is corrected to read as follows:

Table 8.—Wage Index for Urban Areas
MSA | Urban area (constituent counties or county equivalents) | Wage index
0040 | Abilene, TX | 0.8009
| Taylor, TX
0060 | Aguadilla, PR | 0.4294
| Aguada, PR
| Aguadilla, PR
| Moca, PR
0080 | Akron, OH | 0.9055
| Portage, OH
| Summit, OH
0120 | Albany, GA | 1.1266
| Dougherty, GA
| Lee, GA
0160 | Albany-Schenectady-Troy, NY | 0.8570
| Albany, NY
| Montgomery, NY
| Rensselaer, NY
| Saratoga, NY
| Schenectady, NY
| Schoharie, NY
0200 | Albuquerque, NM | 1.0485
| Bernalillo, NM
| Sandoval, NM
| Valencia, NM
0220 | Alexandria, LA | 0.8171
| Rapides, LA
0240 | Allentown-Bethlehem-Easton, PA | 0.9536
| Carbon, PA
| Lehigh, PA
| Northampton, PA
0280 | Altoona, PA | 0.8462
| Blair, PA
0320 | Amarillo, TX | 0.9178
| Potter, TX
| Randall, TX
0380 | Anchorage, AK | 1.2109
| Anchorage, AK
0440 | Ann Arbor, MI | 1.0816
| Lenawee, MI
| Livingston, MI
| Washtenaw, MI
0450 | Anniston,AL | 0.7881
| Calhoun, AL
0460 | Appleton-Oshkosh-Neenah, WI | 0.9115
| Calumet, WI
| Outagamie, WI
| Winnebago, WI
0470 | Arecibo, PR | 0.3757
| Arecibo, PR
| Camuy, PR
| Hatillo, PR
0480 | Asheville, NC | 0.9501
| Buncombe, NC
| Madison, NC
0500 | Athens, GA | 1.0202
| Clarke, GA
| Madison, GA
| Oconee, GA
0520 | Atlanta, GA | 0.9971
| Barrow, GA
| Bartow, GA
| Carroll, GA
| Cherokee, GA
| Clayton, GA
| Cobb, GA
| Coweta, GA
| De Kalb, GA
| Douglas, GA
| Fayette, GA
| Forsyth, GA
| Fulton, GA
| Gwinnett, GA
| Henry, GA
| Newton, GA
| Paulding, GA
| Pickens, GA
| Rockdale, GA
| Spalding, GA
| Walton, GA
0560 | Atlantic City-Cape May, NJ | 1.0907
| Atlantic City, NJ
| Cape May, NJ
0580 | Auburn-Opelika, AL | 0.8215
| Lee, AL
0600 | Augusta-Aiken, GA-SC | 0.9208
| Columbia, GA
| McDuffie, GA
| Richmond, GA
| Aiken, SC
| Edgefield, SC
0640 | Austin-San Marcos, TX | 0.9595
| Bastrop, TX
| Caldwell, TX
| Hays, TX
| Travis, TX
| Williamson, TX
0680 | Bakersfield, CA | 1.0036
| Kern, CA
0720 | Baltimore, MD | 0.9907
| Anne Arundel, MD
| Baltimore, MD
| Baltimore City, MD
| Carroll, MD
| Harford, MD
| Howard, MD
| Queen Annes, MD
0733 | Bangor, ME | 0.9955
| Penobscot, ME
0743 | Barnstable-Yarmouth, MA | 1.2335
| Barnstable, MA
0760 | Baton Rouge, LA | 0.8354
| Ascension, LA
| East Baton Rouge
| Livingston, LA
| West Baton Rouge, LA
0840 | Beaumont-Port Arthur, TX | 0.8616
| Hardin, TX
| Jefferson, TX
| Orange, TX
0860 | Bellingham, WA | 1.1642
| Whatcom, WA
0870 | Benton Harbor, MI | 0.8847
| Berrien, MI
0875 | Bergen-Passaic, NJ | 1.1967
| Bergen, NJ
| Passaic, NJ
0880 | Billings, MT | 0.8961
| Yellowstone, MT
0920 | Biloxi-Gulfport-Pascagoula, MS | 0.8649
| Hancock, MS
| Harrison, MS
| Jackson, MS
0960 | Binghamton, NY | 0.8447
| Broome, NY
| Tioga, NY
1000 | Birmingham, AL | 0.9198
| Blount, AL
| Jefferson, AL
| St. Clair, AL
| Shelby, AL
1010 | Bismarck, ND | 0.7505
| Burleigh, ND
| Morton, ND
1020 | Bloomington, IN | 0.8587
| Monroe, IN
1040 | Bloomington-Normal, IL | 0.9111
| McLean, IL
1080 | Boise City, ID | 0.9352
| Ada, ID
| Canyon, ID
1123 | Boston-Worcester-Lawrence-Lowell-Brockton, MA-NH | 1.1290
| Bristol, MA
| Essex, MA
| Middlesex, MA
| Norfolk, MA
| Plymouth, MA
| Suffolk, MA
| Worcester, MA
| Hillsborough, NH
| Merrimack, NH
| Rockingham, NH
| Strafford, NH
1125 | Boulder-Longmont, CO | 1.0046
| Boulder, CO
1145 | Brazoria, TX | 0.8524
| Brazoria, TX
1150 | Bremerton, WA | 1.0614
| Kitsap, WA
1240 | Brownsville-Harlingen-San Benito, TX | 1.0125
| Cameron, TX
1260 | Bryan-College Station, TX | 0.9243
| Brazos, TX
1280 | Buffalo-Niagara Falls, NY | 0.9339
| Erie, NY
| Niagara, NY
1303 | Burlington, VT | 0.9322
| Chittenden, VT
| Franklin, VT
| Grand Isle, VT
1310 | Caguas, PR | 0.4061
| Caguas, PR
| Cayey, PR
| Cidra, PR
| Gurabo, PR
| San Lorenzo, PR
1320 | Canton-Massillon, OH | 0.8895
| Carroll, OH
| Stark, OH
1350 | Casper, WY | 0.9243
| Natrona, WY
1360 | Cedar Rapids, IA | 0.8975
| Linn, IA
1400 | Champaign-Urbana, IL | 0.9527
| Champaign, IL
1440 | Charleston-North Charleston, SC | 0.9420
| Berkeley, SC
| Charleston, SC
| Dorchester, SC
1480 | Charleston, WV | 0.8876
| Kanawha, WV
| Putnam, WV
1520 | Charlotte-Gastonia-Rock Hill, NC-SC | 0.9711
| Cabarrus, NC
| Gaston, NC
| Lincoln, NC
| Mecklenburg, NC
| Rowan, NC
| Union, NC
| York, SC
1540 | Charlottesville, VA | 1.0294
| Albemarle, VA
| Charlottesville City, VA
| Fluvanna, VA
| Greene, VA
1560 | Chattanooga, TN-GA | 0.9207
| Catoosa, GA
| Dade, GA
| Walker, GA
| Hamilton, TN
| Marion, TN
1580 | Cheyenne, WY | 0.8980
| Laramie, WY
1600 | Chicago, IL | 1.0851
| Cook, IL
| De Kalb, IL
| Du Page, IL
| Grundy, IL
| Kane, IL
| Kendall, IL
| Lake, IL
| McHenry, IL
| Will, IL
1620 | Chico-Paradise, CA | 1.0542
| Butte, CA
1640 | Cincinnati, OH-KY-IN | 0.9595
| Dearborn, IN
| Ohio, IN
| Boone, KY
| Campbell, KY
| Gallatin, KY
| Grant, KY
| Kenton, KY
| Pendleton, KY
| Brown, OH
| Clermont, OH
| Hamilton, OH
| Warren, OH
1660 | Clarksville-Hopkinsville, TN-KY | 0.8022
| Christian, KY
| Montgomery, TN
1680 | Cleveland-Lorain-Elyria, OH | 0.9626
| Ashtabula, OH
| Geauga, OH
| Cuyahoga, OH
| Lake, OH
| Lorain, OH
| Medina, OH
1720 | Colorado Springs, CO | 0.9792
| El Paso, CO
1740 | Columbia MO | 0.8396
| Boone, MO
1760 | Columbia, SC | 0.9450
| Lexington, SC
| Richland, SC
1800 | Columbus, GA-AL | 0.8690
| Russell,AL
| Chattanoochee, GA
| Harris, GA
| Muscogee, GA
1840 | Columbus, OH | 0.9753
| Delaware, OH
| Fairfield, OH
| Franklin, OH
| Licking, OH
| Madison, OH
| Pickaway, OH
1880 | Corpus Christi, TX | 0.8647
| Nueces, TX
| San Patricio, TX
1890 | Corvallis, OR | 1.0545
| Benton, OR
1900 | Cumberland, MD-WV | 0.8662
| Allegany MD
| Mineral WV
1920 | Dallas, TX | 1.0054
| Collin, TX
| Dallas, TX
| Denton, TX
| Ellis, TX
| Henderson, TX
| Hunt, TX
| Kaufman, TX
| Rockwall, TX
1950 | Danville, VA | 0.8643
| Danville City, VA
| Pittsylvania, VA
1960 | Davenport-Moline-Rock Island, IA-IL | 0.8773
| Scott, IA
| Henry, IL
| Rock Island, IL
2000 | Dayton-Springfield, OH | 0.9231
| Clark, OH
| Greene, OH
| Miami, OH
| Montgomery, OH
2020 | Daytona Beach, FL | 0.8900
| Flagler, FL
| Volusia, FL
2030 | Decatur, AL | 0.8894
| Lawrence, AL
| Morgan, AL
2040 | Decatur, IL | 0.8122
| Macon, IL
2080 | Denver, CO | 1.0904
| Adams, CO
| Arapahoe, CO
| Broomfield, CO
| Denver, CO
| Douglas, CO
| Jefferson, CO
2120 | Des Moines, IA | 0.9266
| Dallas, IA
| Polk, IA
| Warren, IA
2160 | Detroit, MI | 1.0227
| Lapeer, MI
| Macomb, MI
| Monroe, MI
| Oakland, MI
| St. Clair, MI
| Wayne, MI
2180 | Dothan, AL | 0.7596
| Dale, AL
| Houston, AL
2190 | Dover, DE | 0.9825
| Kent, DE
2200 | Dubuque, IA | 0.8748
| Dubuque, IA
2240 | Duluth-Superior, MN-WI | 1.0356
| St. Louis, MN
| Douglas, WI
2281 | Dutchess County, NY | 1.1657
| Dutchess, NY
2290 | Eau Claire, WI | 0.9139
| Chippewa, WI
| Eau Claire, WI
2320 | El Paso, TX | 0.9181
| El Paso, TX
2330 | Elkhart-Goshen, IN | 0.9278
| Elkhart, IN
2335 | Elmira, NY | 0.8445
| Chemung, NY
2340 | Enid, OK | 0.9001
| Garfield, OK
2360 | Erie, PA | 0.8699
| Erie, PA
2400 | Eugene-Springfield, OR | 1.0940
| Lane, OR
2440 | Evansville-Henderson, IN-KY | 0.8395
| Posey, IN
| Vanderburgh, IN
| Warrick, IN
| Henderson, KY
2520 | Fargo-Moorhead, ND-MN | 0.9114
| Clay, MN
| Cass, ND
2560 | Fayetteville, NC | 0.9363
| Cumberland, NC
2580 | Fayetteville-Springdale-Rogers, AR | 0.8636
| Benton, AR
| Washington, AR
2620 | Flagstaff, AZ-UT | 1.0611
| Coconino, AZ
| Kane, UT
2640 | Flint, MI | 1.1178
| Genesee, MI
2650 | Florence, AL | 0.7883
| Colbert, AL
| Lauderdale, AL
2655 | Florence, SC | 0.8960
| Florence, SC
2670 | Fort Collins-Loveland, CO | 1.0218
| Larimer, CO
2680 | Ft. Lauderdale, FL | 1.0165
| Broward, FL
2700 | Fort Myers-Cape Coral, FL | 0.9371
| Lee, FL
2710 | Fort Pierce-Port St. Lucie, FL | 1.0046
| Martin, FL
| St. Lucie, FL
2720 | Fort Smith, AR-OK | 0.8303
| Crawford, AR
| Sebastian, AR
| Sequoyah, OK
2750 | Fort Walton Beach, FL | 0.8786
| Okaloosa, FL
2760 | Fort Wayne, IN | 0.9737
| Adams, IN
| Allen, IN
| De Kalb, IN
| Huntington, IN
| Wells, IN
| Whitley, IN
2800 | Forth Worth-Arlington, TX | 0.9520
| Hood, TX
| Johnson, TX
| Parker, TX
| Tarrant, TX
2840 | Fresno, CA | 1.0407
| Fresno, CA
| Madera, CA
2880 | Gadsden, AL | 0.8049
| Etowah, AL
2900 | Gainesville, FL | 0.9459
| Alachua, FL
2920 | Galveston-Texas City, TX | 0.9403
| Galveston, TX
2960 | Gary, IN | 0.9342
| Lake, IN
| Porter, IN
2975 | Glens Falls, NY | 0.8467
| Warren, NY
| Washington, NY
2980 | Goldsboro, NC | 0.8778
| Wayne, NC
2985 | Grand Forks, ND-MN | 0.9091
| Polk, MN
| Grand Forks, ND
2995 | Grand Junction, CO | 0.9900
| Mesa, CO
3000 | Grand Rapids-Muskegon-Holland, MI | 0.9519
| Allegan, MI
| Kent, MI
| Muskegon, MI
| Ottawa, MI
3040 | Great Falls, MT | 0.8810
| Cascade, MT
3060 | Greeley, CO | 0.9444
| Weld, CO
3080 | Green Bay, WI | 0.9586
| Brown, WI
3120 | Greensboro-Winston-Salem-High Point, NC | 0.9312
| Alamance, NC
| Davidson, NC
| Davie, NC
| Forsyth, NC
| Guilford, NC
| Randolph, NC
| Stokes, NC
| Yadkin, NC
3150 | Greenville, NC | 0.9183
| Pitt, NC
3160 | Greenville-Spartanburg-Anderson, SC | 0.9400
| Anderson, SC
| Cherokee, SC
| Greenville, SC
| Pickens, SC
| Spartanburg, SC
3180 | Hagerstown, MD | 0.9940
| Washington, MD
3200 | Hamilton-Middletown, OH | 0.9066
| Butler, OH
3240 | Harrisburg-Lebanon-Carlisle, PA | 0.9286
| Cumberland, PA
| Dauphin, PA
| Lebanon, PA
| Perry, PA
3283 | Hartford, CT | 1.1054
| Hartford, CT
| Litchfield, CT
| Middlesex, CT
| Tolland, CT
3285 | Hattiesburg, MS | 0.7362
| Forrest, MS
| Lamar, MS
3290 | Hickory-Morganton-Lenoir, NC | 0.9502
| Alexander, NC
| Burke, NC
| Caldwell, NC
| Catawba, NC
3320 | Honolulu, HI | 1.1013
| Honolulu, HI
3350 | Houma, LA | 0.7721
| Lafourche, LA
| Terrebonne, LA
3360 | Houston, TX | 1.0117
| Chambers, TX
| Fort Bend, TX
| Harris, TX
| Liberty, TX
| Montgomery, TX
| Waller, TX
3400 | Huntington-Ashland, WV-KY-OH | 0.9564
| Boyd, KY
| Carter, KY
| Greenup, KY
| Lawrence, OH
| Cabell, WV
| Wayne, WV
3440 | Huntsville, AL | 0.8851
| Limestone, AL
| Madison, AL
3480 | Indianapolis, IN | 1.0039
| Boone, IN
| Hamilton, IN
| Hancock, IN
| Hendricks, IN
| Johnson, IN
| Madison, IN
| Marion, IN
| Morgan, IN
| Shelby, IN
3500 | Iowa City, IA | 0.9654
| Johnson, IA
3520 | Jackson, MI | 0.9146
| Jackson, MI
3560 | Jackson, MS | 0.8406
| Hinds, MS
| Madison, MS
| Rankin, MS
3580 | Jackson, TN | 0.8900
| Chester, TN
| Madison, TN
3600 | Jacksonville, FL | 0.9548
| Clay, FL
| Duval, FL
| Nassau, FL
| St. Johns, FL
3605 | Jacksonville, NC | 0.8401
| Onslow, NC
3610 | Jamestown, NY | 0.7589
| Chautaqua, NY
3620 | Janesville-Beloit, WI | 0.9583
| Rock, WI
3640 | Jersey City, NJ | 1.0923
| Hudson, NJ
3660 | Johnson City-Kingsport-Bristol, TN-VA | 0.8202
| Carter, TN
| Hawkins, TN
| Sullivan, TN
| Unicoi, TN
| Washington, TN
| Bristol City, VA
| Scott, VA
| Washington, VA
3680 | Johnstown, PA | 0.7980
| Cambria, PA
| Somerset, PA
3700 | Jonesboro, AR | 0.8144
| Craighead, AR
3710 | Joplin, MO | 0.8721
| Jasper, MO
| Newton, MO
3720 | Kalamazoo-Battlecreek, MI | 1.0350
| Calhoun, MI
| Kalamazoo, MI
| Van Buren, MI
3740 | Kankakee, IL | 1.0603
| Kankakee, IL
3760 | Kansas City, KS-MO | 0.9641
| Johnson, KS
| Leavenworth, KS
| Miami, KS
| Wyandotte, KS
| Cass, MO
| Clay, MO
| Clinton, MO
| Jackson, MO
| Lafayette, MO
| Platte, MO
| Ray, MO
3800 | Kenosha, WI | 0.9772
| Kenosha, WI
3810 | Killeen-Temple, TX | 0.9242
| Bell, TX
| Coryell, TX
3840 | Knoxville, TN | 0.8508
| Anderson, TN
| Blount, TN
| Knox, TN
| Loudon, TN
| Sevier, TN
| Union, TN
3850 | Kokomo, IN | 0.8986
| Howard, IN
| Tipton, IN
3870 | La Crosse, WI-MN | 0.9289
| Houston, MN
| La Crosse, WI
3880 | Lafayette, LA | 0.8105
| Acadia, LA
| Lafayette, LA
| St. Landry, LA
| St. Martin, LA
3920 | Lafayette, IN | 0.9067
| Clinton, IN
| Tippecanoe, IN
3960 | Lake Charles, LA | 0.7959 (0.7972**)
| Calcasieu, LA
3980 | Lakeland-Winter Haven, FL | 0.8930
| Polk, FL
4000 | Lancaster, PA | 0.9883
| Lancaster, PA
4040 | Lansing-East Lansing, MI | 0.9658
| Clinton, MI
| Eaton, MI
| Ingham, MI
4080 | Laredo, TX | 0.8747
| Webb, TX
4100 | Las Cruces, NM | 0.8784
| Dona Ana, NM
4120 | Las Vegas, NV-AZ | 1.1121
| Mohave, AZ
| Clark, NV
| Nye, NV
4150 | Lawrence, KS | 0.8644
| Douglas, KS
4200 | Lawton, OK | 0.8212
| Comanche, OK
4243 | Lewiston-Auburn, ME | 0.9562
| Androscoggin, ME
4280 | Lexington, KY | 0.8053 (0.9219**)
| Bourbon, KY
| Clark, KY
| Fayette, KY
| Jessamine, KY
| Madison, KY
| Scott, KY
| Woodford, KY
4320 | Lima, OH | 0.9258
| Allen, OH
| Auglaize, OH
4360 | Lincoln, NE | 1.0208
| Lancaster, NE
4400 | Little Rock-North Little, AR | 0.8826
| Faulkner, AR
| Lonoke, AR
| Pulaski, AR
| Saline, AR
4420 | Longview-Marshall, TX | 0.8739
| Gregg, TX
| Harrison, TX
| Upshur, TX
4480 | Los Angeles-Long Beach, CA | 1.1732
| Los Angeles, CA
4520 | Louisville, KY-IN | 0.9162
| Clark, IN
| Floyd, IN
| Harrison, IN
| Scott, IN
| Bullitt, KY
| Jefferson, KY
| Oldham, KY
4600 | Lubbock, TX | 0.8777
| Lubbock, TX
4640 | Lynchburg, VA | 0.9017
| Amherst, VA
| Bedford City, VA
| Bedford, VA
| Campbell, VA
| Lynchburg City, VA
4680 | Macon, GA | 0.9596
| Bibb, GA
| Houston, GA
| Jones, GA
| Peach, GA
| Twiggs, GA
4720 | Madison, WI | 1.0395
| Dane, WI
4800 | Mansfield, OH | 0.9105
| Crawford, OH
| Richland, OH
4840 | Mayaguez, PR | 0.4769
| Anasco, PR
| Cabo Rojo, PR
| Hormigueros, PR
| Mayaguez, PR
| Sabana Grande, PR
| San German, PR
4880 | McAllen-Edinburg-Mission, TX | 0.8602
| Hidalgo, TX
4890 | Medford-Ashland, OR | 1.0534
| Jackson, OR
4900 | Melbourne-Titusville-Palm Bay, FL | 0.9633
| Brevard, FL
4920 | Memphis, TN-AR-MS | 0.9234
| Crittenden, AR
| De Soto, MS
| Fayette, TN
| Shelby, TN
| Tipton, TN
4940 | Merced, CA | 1.0575
| Merced, CA
5000 | Miami, FL | 1.0025 (0.9870**)
| Dade, FL
5015 | Middlesex-Somerset-Hunterdon, NJ | 1.1360
| Hunterdon, NJ
| Middlesex, NJ
| Somerset, NJ
5080 | Milwaukee-Waukesha, WI | 1.0076
| Milwaukee, WI
| Ozaukee, WI
| Washington, WI
| Waukesha, WI
5120 | Minneapolis-St. Paul, MN-WI | 1.1066
| Anoka, MN
| Carver, MN
| Chisago, MN
| Dakota, MN
| Hennepin, MN
| Isanti, MN
| Ramsey, MN
| Scott, MN
| Sherburne, MN
| Washington, MN
| Wright, MN
| Pierce, WI
| St. Croix, WI
5140 | Missoula, MT | 0.9618
| Missoula, MT
5160 | Mobile, AL | 0.7932
| Baldwin, AL
| Mobile, AL
5170 | Modesto, CA | 1.1966
| Stanislaus, CA
5190 | Monmouth-Ocean, NJ | 1.0888
| Monmouth, NJ
| Ocean, NJ
5200 | Monroe, LA | 0.7913
| Ouachita, LA
5240 | Montgomery, AL | 0.8300
| Autauga, AL
| Elmore, AL
| Montgomery, AL
5280 | Muncie, IN | 0.8580
| Delaware, IN
5330 | Myrtle Beach, SC | 0.9022
| Horry, SC
5345 | Naples, FL | 1.0558
| Collier, FL
5360 | Nashville, TN | 1.0108
| Cheatham, TN
| Davidson, TN
| Dickson, TN
| Robertson, TN
| Rutherford, TN
| Sumner, TN
| Williamson, TN
| Wilson, TN
5380 | Nassau-Suffolk, NY | 1.2921 (1.2907**)
| Nassau, NY
| Suffolk, NY
5483 | New Haven-Bridgeport-Stamford-Waterbury-Danbury, CT | 1.2254
| Fairfield, CT
| New Haven, CT
5523 | New London-Norwich, CT | 1.1596
| New London, CT
5560 | New Orleans, LA | 0.9103
| Jefferson, LA
| Orleans, LA
| Plaquemines, LA
| St. Bernard, LA
| St. Charles, LA
| St. James, LA
| St. John The Baptist, LA
| St. Tammany, LA
5600 | New York, NY | 1.3587 (1.3586**)
| Bronx, NY
| Kings, NY
| New York, NY
| Putnam, NY
| Queens, NY
| Richmond, NY
| Rockland, NY
| Westchester, NY
5640 | Newark, NJ | 1.1625
| Essex, NJ
| Morris, NJ
| Sussex, NJ
| Union, NJ
| Warren, NJ
5660 | Newburgh, NY-PA | 1.1170
| Orange, NY
| Pike, PA
5720 | Norfolk-Virginia Beach-Newport News, VA-NC | 0.8894
| Currituck, NC
| Chesapeake City, VA
| Gloucester, VA
| Hampton City, VA
| Isle of Wight, VA
| James City, VA
| Mathews, VA
| Newport News City, VA
| Norfolk City, VA
| Poquoson City,VA
| Portsmouth City, VA
| Suffolk City, VA
| Virginia Beach City, VA
| Williamsburg City, VA
| York, VA
5775 | Oakland, CA | 1.5220
| Alameda, CA
| Contra Costa, CA
5790 | Ocala, FL | 0.9153
| Marion, FL
5800 | Odessa-Midland, TX | 0.9632
| Ector, TX
| Midland, TX
5880 | Oklahoma City, OK | 0.8966
| Canadian, OK
| Cleveland, OK
| Logan, OK
| McClain, OK
| Oklahoma, OK
| Pottawatomie, OK
5910 | Olympia, WA | 1.1006
| Thurston, WA
5920 | Omaha, NE-IA | 0.9754
| Pottawattamie, IA
| Cass, NE
| Douglas, NE
| Sarpy, NE
| Washington, NE
5945 | Orange County, CA | 1.1611
| Orange, CA
5960 | Orlando, FL | 0.9742
| Lake, FL
| Orange, FL
| Osceola, FL
| Seminole, FL
5990 | Owensboro, KY | 0.8434
| Daviess, KY
6015 | Panama City, FL | 0.8124
| Bay, FL
6020 | Parkersburg-Marietta, WV-OH | 0.8288
| Washington, OH
| Wood, WV
6080 | Pensacola, FL | 0.8306
| Escambia, FL
| Santa Rosa, FL
6120 | Peoria-Pekin, IL | 0.8886
| Peoria, IL
| Tazewell, IL
| Woodford, IL
6160 | Philadelphia, PA-NJ | 1.0824
| Burlington, NJ
| Camden, NJ
| Gloucester, NJ
| Salem, NJ
| Bucks, PA
| Chester, PA
| Delaware, PA
| Montgomery, PA
| Philadelphia, PA
6200 | Phoenix-Mesa, AZ | 0.9982
| Maricopa, AZ
| Pinal, AZ
6240 | Pine Bluff, AR | 0.8673
| Jefferson, AR
6280 | Pittsburgh, PA | 0.8756
| Allegheny, PA
| Beaver, PA
| Butler, PA
| Fayette, PA
| Washington, PA
| Westmoreland, PA
6323 | Pittsfield, MA | 1.0439
| Berkshire, MA
6340 | Pocatello, ID | 0.9601
| Bannock, ID
6360 | Ponce, PR | 0.4954
| Guayanilla, PR
| Juana Diaz, PR
| Penuelas, PR
| Ponce, PR
| Villalba, PR
| Yauco, PR
6403 | Portland, ME | 1.0112
| Cumberland, ME
| Sagadahoc, ME
| York, ME
6440 | Portland-Vancouver, OR-WA | 1.1403
| Clackamas, OR
| Columbia, OR
| Multnomah, OR
| Washington, OR
| Yamhill, OR
| Clark, WA
6483 | Providence-Warwick-Pawtucket, RI | 1.1061
| Bristol, RI
| Kent, RI
| Newport, RI
| Providence, RI
| Washington, RI
6520 | Provo-Orem, UT | 0.9613
| Utah, UT
6560 | Pueblo, CO | 0.8752
| Pueblo, CO
6580 | Punta Gorda, FL | 0.9441
| Charlotte, FL
6600 | Racine, WI | 0.9045
| Racine, WI
6640 | Raleigh-Durham-Chapel Hill, NC | 1.0258
| Chatham, NC
| Durham, NC
| Franklin, NC
| Johnston, NC
| Orange, NC
| Wake, NC
6660 | Rapid City, SD | 0.8912
| Pennington, SD
6680 | Reading, PA | 0.9215
| Berks, PA
6690 | Redding, CA | 1.1835
| Shasta, CA
6720 | Reno, NV | 1.0456
| Washoe, NV
6740 | Richland-Kennewick-Pasco, WA | 1.0520
| Benton, WA
| Franklin, WA
6760 | Richmond-Petersburg, VA | 0.9397
| Charles City County, VA
| Chesterfield, VA
| Colonial Heights City, VA
| Dinwiddie, VA
| Goochland, VA
| Hanover, VA
| Henrico, VA
| Hopewell City, VA
| New Kent, VA
| Petersburg City, VA
| Powhatan, VA
| Prince George, VA
| Richmond City, VA
6780 | Riverside-San Bernardino, CA | 1.0975 (1.0970**)
| Riverside, CA
| San Bernardino, CA
6800 | Roanoke, VA | 0.8428
| Botetourt, VA
| Roanoke, VA
| Roanoke City, VA
| Salem City, VA
6820 | Rochester, MN | 1.1504
| Olmsted, MN
6840 | Rochester, NY | 0.9196
| Genesee, NY
| Livingston, NY
| Monroe, NY
| Ontario, NY
| Orleans, NY
| Wayne, NY
6880 | Rockford, IL | 0.9626
| Boone, IL
| Ogle, IL
| Winnebago, IL
6895 | Rocky Mount, NC | 0.8998
| Edgecombe, NC
| Nash, NC
6920 | Sacramento, CA | 1.1848
| El Dorado, CA
| Placer, CA
| Sacramento, CA
6960 | Saginaw-Bay City-Midland, MI | 0.9696
| Bay, MI
| Midland, MI
| Saginaw, MI
6980 | St. Cloud, MN | 1.0215
| Benton, MN
| Stearns, MN
7000 | St. Joseph, MO | 1.0013
| Andrews, MO
| Buchanan, MO
7040 | St. Louis, MO-IL | 0.9081
| Clinton, IL
| Jersey, IL
| Madison, IL
| Monroe, IL
| St. Clair, IL
| Franklin, MO
| Jefferson, MO
| Lincoln, MO
| St. Charles, MO
| St. Louis, MO
| St. Louis City, MO
| Warren, MO
| Sullivan City, MO
7080 | Salem, OR | 1.0556
| Marion, OR
| Polk, OR
7120 | Salinas, CA | 1.3823
| Monterey, CA
7160 | Salt Lake City-Ogden, UT | 0.9487
| Davis, UT
| Salt Lake, UT
| Weber, UT
7200 | San Angelo, TX | 0.8167
| Tom Green, TX
7240 | San Antonio, TX | 0.9023
| Bexar, TX
| Comal, TX
| Guadalupe, TX
| Wilson, TX
7320 | San Diego, CA | 1.1267
| San Diego, CA
7360 | San Francisco, CA | 1.4712
| Marin, CA
| San Francisco, CA
| San Mateo, CA
7400 | San Jose, CA | 1.4744
| Santa Clara, CA
7440 | San Juan-Bayamon, PR | 0.4802
| Aguas Buenas, PR
| Barceloneta, PR
| Bayamon, PR
| Canovanas, PR
| Carolina, PR
| Catano, PR
| Ceiba, PR
| Comerio, PR
| Corozal, PR
| Dorado, PR
| Fajardo, PR
| Florida, PR
| Guaynabo, PR
| Humacao, PR
| Juncos, PR
| Los Piedras, PR
| Loiza, PR
| Luguillo, PR
| Manati, PR
| Morovis, PR
| Naguabo, PR
| Naranjito, PR
| Rio Grande, PR
| San Juan, PR
| Toa Alta, PR
| Toa Baja, PR
| Trujillo Alto, PR
| Vega Alta, PR
| Vega Baja, PR
| Yabucoa, PR
7460 | San Luis Obispo-Atascadero-Paso Robles, CA | 1.1118
| San Luis Obispo, CA
7480 | Santa Barbara-Santa Maria-Lompoc, CA | 1.0771
| Santa Barbara, CA
7485 | Santa Cruz-Watsonville, CA | 1.4779
| Santa Cruz, CA
7490 | Santa Fe, NM | 1.0590
| Los Alamos, NM
| Santa Fe, NM
7500 | Santa Rosa, CA | 1.2961
| Sonoma, CA
7510 | Sarasota-Bradenton, FL | 0.9629
| Manatee, FL
| Sarasota, FL
7520 | Savannah, GA | 0.9460
| Bryan, GA
| Chatham, GA
| Effingham, GA
7560 | Scranton--Wilkes-Barre--Hazleton, PA | 0.8522
| Columbia, PA
| Lackawanna, PA
| Luzerne, PA
| Wyoming, PA
7600 | Seattle-Bellevue-Everett, WA | 1.1479
| Island, WA
| King, WA
| Snohomish, WA
7610 | Sharon, PA | 0.7881
| Mercer, PA
7620 | Sheboygan, WI | 0.8948
| Sheboygan, WI
7640 | Sherman-Denison, TX | 0.9617
| Grayson, TX
7680 | Shreveport-Bossier City, LA | 0.9111
| Bossier, LA
| Caddo, LA
| Webster, LA
7720 | Sioux City, IA-NE | 0.9094
| Woodbury, IA
| Dakota, NE
7760 | Sioux Falls, SD | 0.9441
| Lincoln, SD
| Minnehaha, SD
7800 | South Bend, IN | 0.9447
| St. Joseph, IN
7840 | Spokane, WA | 1.0660
| Spokane, WA
7880 | Springfield, IL | 0.8738
| Menard, IL
| Sangamon, IL
7920 | Springfield, MO | 0.8597
| Christian, MO
| Greene, MO
| Webster, MO
8003 | Springfield, MA | 1.0173
| Hampden, MA
| Hampshire, MA
8050 | State College, PA | 0.8461
| Centre, PA
8080 | Steubenville-Weirton, OH-WV | 0.8280
| Jefferson, OH
| Brooke, WV
| Hancock, WV
8120 | Stockton-Lodi, CA | 1.0564
| San Joaquin, CA
8140 | Sumter, SC | 0.8520
| Sumter, SC
8160 | Syracuse, NY | 0.9394
| Cayuga, NY
| Madison, NY
| Onondaga, NY
| Oswego, NY
8200 | Tacoma, WA | 1.1078
| Pierce, WA
8240 | Tallahassee, FL | 0.8655
| Gadsden, FL
| Leon, FL
8280 | Tampa-St. Petersburg-Clearwater, FL | 0.9024
| Hernando, FL
| Hillsborough, FL
| Pasco, FL
| Pinellas, FL
8320 | Terre Haute, IN | 0.8582
| Clay, IN
| Vermillion, IN
| Vigo, IN
8360 | Texarkana, AR-Texarkana, TX | 0.8413
| Miller, AR
| Bowie, TX
8400 | Toledo, OH | 0.9524
| Fulton, OH
| Lucas, OH
| Wood, OH
8440 | Topeka, KS | 0.8904
| Shawnee, KS
8480 | Trenton, NJ | 1.0276
| Mercer, NJ
8520 | Tucson, AZ | 0.8926
| Pima, AZ
8560 | Tulsa, OK | 0.8729
| Creek, OK
| Osage, OK
| Rogers, OK
| Tulsa, OK
| Wagoner, OK
8600 | Tuscaloosa, AL | 0.8440
| Tuscaloosa, AL
8640 | Tyler, TX | 0.9502
| Smith, TX
8680 | Utica-Rome, NY | 0.8295
| Herkimer, NY
| Oneida, NY
8720 | Vallejo-Fairfield-Napa, CA | 1.3517
| Napa, CA
| Solano, CA
8735 | Ventura, CA | 1.1105
| Ventura, CA
8750 | Victoria, TX | 0.8469
| Victoria, TX
8760 | Vineland-Millville-Bridgeton, NJ | 1.0573
| Cumberland, NJ
8780 | Visalia-Tulare-Porterville, CA | 0.9964 (0.9975**)
| Tulare, CA
8800 | Waco, TX | 0.8146
| McLennan, TX
8840 | Washington, DC-MD-VA-WV | 1.0971
| District of Columbia, DC
| Calvert, MD
| Charles, MD
| Frederick, MD
| Montgomery, MD
| Prince Georges, MD
| Alexandria City, VA
| Arlington, VA
| Clarke, VA
| Culpepper, VA
| Fairfax, VA
| Fairfax City, VA
| Falls Church City, VA
| Fauquier, VA
| Fredericksburg City, VA
| King George, VA
| Loudoun, VA
| Manassas City, VA
| Manassas Park City, VA
| Prince William, VA
| Spotsylvania, VA
| Stafford, VA
| Warren, VA
| Berkeley, WV
| Jefferson, WV
8920 | Waterloo-Cedar Falls, IA | 0.8633
| Black Hawk, IA
8940 | Wausau, WI | 0.9570
| Marathon, WI
8960 | West Palm Beach-Boca Raton, FL | 1.0059 (1.0362**)
| Palm Beach, FL
9000 | Wheeling, OH-WV | 0.7449
| Belmont, OH
| Marshall, WV
| Ohio, WV
9040 | Wichita, KS | 0.9472 (0.9468**)
| Butler, KS
| Harvey, KS
| Sedgwick, KS
9080 | Wichita Falls, TX | 0.8395
| Archer, TX
| Wichita, TX
9140 | Williamsport, PA | 0.8485
| Lycoming, PA
9160 | Wilmington-Newark, DE-MD | 1.1121
| New Castle, DE
| Cecil, MD
9200 | Wilmington, NC | 0.9237
| New Hanover, NC
| Brunswick, NC
9260 | Yakima, WA | 1.0322
| Yakima, WA
9270 | Yolo, CA | 0.9378
| Yolo, CA
9280 | York, PA | 0.9150
| York, PA
9320 | Youngstown-Warren, OH | 0.9517
| Columbiana, OH
| Mahoning, OH
| Trumbull, OH
9340 | Yuba City, CA | 1.0363
| Sutter, CA
| Yuba, CA
9360 | Yuma, AZ | 0.8871
| Yuma, AZ
**Effective January 1, 2005

2. On page 45815, Table 9 is revised to read as follows:

Table 9.—Wage Index for Rural Areas
Nonurban area | Wage index
Alabama | 0.7637
Alaska | 1.1637
Arizona | 0.9140
Arkansas | 0.7703
California | 1.0297
Colorado | 0.9368
Connecticut | 1.1917
Delaware | 0.9503
Florida | 0.8721
Georgia | 0.8247
Guam | 0.9611
Hawaii | 1.0522
Idaho | 0.8826
Illinois | 0.8340
Indiana | 0.8736
Iowa | 0.8550
Kansas | 0.8087
Kentucky | 0.7844
Louisiana | 0.7290
Maine | 0.9039
Maryland | 0.9179
Massachusetts | 1.0216
Michigan | 0.8740
Minnesota | 0.9339
Mississippi | 0.7583
Missouri | 0.7829
Montana | 0.8701
Nebraska | 0.9035
Nevada | 0.9832
New Hampshire | 0.9940
New Jersey ¹ |
New Mexico | 0.8529
New York | 0.8403
North Carolina | 0.8500
North Dakota | 0.7743
Ohio | 0.8759
Oklahoma | 0.7537
Oregon | 1.0049
Pennsylvania | 0.8348
Puerto Rico | 0.4047
Rhode Island ¹ |
South Carolina | 0.8640
South Dakota | 0.8393
Tennessee | 0.7876
Texas | 0.7910
Utah | 0.8843
Vermont | 0.9375
Virginia | 0.8479
Virgin Islands | 0.7456
Washington | 1.0072
West Virginia | 0.8083
Wisconsin | 0.9498
Wyoming | 0.9182
¹ All counties within the State are classified urban.

3. On page 45817, Table 10 is revised to read as follows:

Table 10.—SNF XYZ: Located in State College, PA
[Wage Index: 0.8461]
RUG Group | Labor | Wage index | Adj. labor | Non-labor | Adj. rate | Percent adjustment | Medicare days | Payment
RVC | $274.56 | 0.8461 | $232.31 | $85.65 | $317.96 | *$339.26 | 14 | $4,750
RHA | $212.18 | 0.8461 | $179.53 | $66.19 | $245.72 | *$262.18 | 16 | $4,195
CC2 | $175.71 | 0.8461 | $148.67 | $54.82 | $203.49 | **$463.96 | 10 | $4,640
SSC | $176.74 | 0.8461 | $149.54 | $55.13 | $204.67 | ***$245.60 | 30 | $7,368
IA2 | $119.84 | 0.8461 | $101.40 | $37.39 | $138.79 | $138.79 | 30 | $4,164
Total |  |  |  |  |  |  | 100 | $25,117
*Reflects a 6.7 percent adjustment from section 314 of the BIPA.
**Reflects a 128 percent adjustment from section 511 of the MMA. Section 101(a) of the BBRA no longer applies because of the MMA section 511 adjustment.
***Reflects a 20 percent adjustment from section 101(a) of the BBRA.

4. On page 45821, Table 12 is revised to read as follows:

Table 12.—Projected Impact of FY 2005 Update to the SNF PPS
| Number of facilities | Wage index change | Total FY 2005 change
Total | 15,252 | 0.0% | 2.8%
Urban | 10,016 | 0.0% | 2.8%
Rural | 5,236 | 0.0% | 2.8%
Hospital based urban | 984 | 0.1% | 2.9%
Freestanding urban | 8,466 | 0.0% | 2.8%
Hospital based rural | 640 | 0.1% | 2.9%
Freestanding rural | 3,708 | 0.0% | 2.8%
Urban by region:
New England | 913 | −0.6% | 2.2%
Middle Atlantic | 1,526 | −0.7% | 2.1%
South Atlantic | 1,610 | 0.3% | 3.1%
East North Central | 1,943 | 0.2% | 3.0%
East South Central | 456 | 0.0% | 2.8%
West North Central | 691 | 0.4% | 3.2%
West South Central | 965 | 0.8% | 3.6%
Mountain | 432 | −0.4% | 2.4%
Pacific | 1,473 | 0.4% | 3.2%
Rural by region:
New England | 149 | 0.4% | 3.2%
Middle Atlantic | 254 | −0.4% | 2.4%
South Atlantic | 715 | −0.3% | 2.5%
East North Central | 948 | 0.1% | 2.9%
Central East South | 595 | −0.4% | 2.4%
West North Central | 1,220 | 0.5% | 3.3%
West South Central | 817 | 0.4% | 3.2%
Mountain | 330 | −0.2% | 2.6%
Pacific | 208 | 0.0% | 2.8%
Ownership:
Government | 712 | 0.0% | 2.8%
Proprietary | 9,457 | 0.0% | 2.8%
Voluntary | 3605 | 0.0% | 2.8%

III. Waiver of Proposed Rulemaking and Delayed Effective Date

We ordinarily publish a notice of proposed rulemaking in the Federal Register to provide a period for public comment before the provisions of a notice such as this take effect in accordance with section 553(b) of the Administrative Procedure Act (APA) (5 U.S.C. 553(b)). We also ordinarily provide a 30-day delay in the effective date of the provisions of a notice in accordance with section 553(d) of the APA (5 U.S.C. 553(d)). However, we can waive both the notice and comment procedure and the 30-day delay in effective date if the Secretary finds, for good cause, that a notice and comment process is impracticable, unnecessary or contrary to the public interest, and incorporates a statement of the finding and the reasons therefore in the notice.

We find it unnecessary to undertake notice-and-comment rulemaking because this notice merely provides technical corrections to the regulations. We are not changing our payment methodology, but rather, are simply implementing correctly the payment methodology that we previously proposed, received comment on, and subsequently finalized. Thus, because the public has already had the opportunity to comment on the payment methodology being used to calculate wage indexes, additional comment would be unnecessary.

Further, we believe a delayed effective date is unnecessary because this correction notice merely corrects inadvertent technical errors. Further, we believe imposing a 30-day delay in the effective date would be contrary to the public interest for SNF providers in the affected MSAs. We believe that it is imperative that these providers receive appropriate SNF PPS payments in as timely a manner as possible, and any delay in applying the appropriate wage index would be contrary to the public interest. Further, the changes noted above do not make any substantive changes to the SNF PPS payment methodology or underlying payment policies. Therefore, we find good cause to waive notice-and-comment procedures, as well as the 30-day delay in effective date.

(Catalog of Federal Domestic Assistance Program No. 93.773, Medicare—Hospital Insurance; and Program No. 93.774, Medicare—Supplementary Medical Insurance Program)

Dated: December 15, 2004.
Ann Agnew,
Executive Secretary to the Department.

[FR Doc. 04-28157 Filed 12-29-04; 8:45 am]

BILLING CODE 4120-01-P